DEPARTMENT OF HEALTH AND HUMAN SERVICES

Administration for Children and Families

Submission for OMB Review; Comment Request

Title: Mother and Infant Home Visiting Program Evaluation: Follow-up data collection on family outcomes.

OMB No.: 0970-0402.

Description: In 2011, the Administration for Children and Families (ACF) and Health Resources and Services Administration (HRSA) within the U.S. Department of Health and Human Services (HHS) launched a national evaluation called the Mother and Infant Home Visiting Program Evaluation (MIHOPE). This evaluation, mandated by the Affordable Care Act, will inform the federal government about the effectiveness of the Maternal, Infant, and Early Childhood Home Visiting (MIECHV) program in its first few years of operation, and provide information to help states develop and strengthen home visiting programs in the future. MIHOPE has two phases. Phase 1 includes baseline data collection and implementation data; Phase 2 includes follow up data collection. OMB approved a data collection package for Phase 1 in July 2012. The purpose of the current document is to request approval of data collection efforts for Phase 2.

Data collected during Phase 2 will include the following: (1) A one-hour family follow-up survey, (2) 30-minutes of observed interactions between the parent and child, (3) a direct assessment of child development, (4) measurement of mother's weight and child's height and weight, (5) collection of saliva from the mother and child for purposes measuring cotinine, an indicator of smoking behavior and exposure to second-hand smoke, and cortisol, an indicator stress exposure and regulation, and (6) extend collection of weekly home visitor logs on home visiting services until a family is no longer receiving services.

Data collected during Phase 2 will be used to estimate the effects of MIECHV-funded programs on seven domains specified for the evaluation in the ACA: (1) Prenatal, maternal, and newborn health; (2) child health and development, including maltreatment, injuries, and development; (3) parenting; (4) school readiness and academic achievement; (5) crime or domestic violence; (6) family economic self-sufficiency; and (7) use of other community resources. Data collected during Phase 2 will also be used to assess the differences in services used between families who receive home visiting and a comparison group, and to assess the quantity of home visiting services received by families.

Respondents: The respondents in Phase 2 will include 4335 parents who are enrolled in the study. Data collection activities will take place over a three-year period.

Annual Burden Estimates
Instrument | Annual number of respondents | Number of responses per respondent | Average burden hours per response | Total annual burden hours
Home visitor logs | 170 | 50 | 0.09 | 765
Family follow-up survey | 1445 | 1 | 1.0 | 1445
Direct parent-child interactions | 2890 | 1 | 0.5 | 1445
Direct child assessments | 1445 | 1 | 0.7 | 1012
Collecting saliva to measure cotinine and cortisol, and measuring height and weight | 2890 | 1 | 0.3 | 867

Estimated Total Annual Burden Hours: 5,334

Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration, for Children and Families.

Steven M. Hanmer,
Reports Clearance, Officer.

[FR Doc. 2013-00592 Filed 1-15-13; 8:45 am]

BILLING CODE 4184-22-M